DEPARTMENT OF HEALTH AND HUMAN SERVICES

Health Resources and Services Administration

Agency Information Collection Activities Under Emergency Review for the Office of Management and Budget (OMB)

The Health Resources and Services Administration (HRSA) has submitted the following request (see below) for emergency OMB review under the Paperwork Reduction Act (44 U.S.C. Chapter 35). OMB approval has been requested within 5 days of publication of this notice. A copy of the information collection plans may be obtained by accessing http://www.bphc.hrsa.gov/freeclinicsftca or contacting Shannon Faltens or Felicia Collins via e-mail at FreeClinicsFTCA@hrsa.gov or on (301) 594-0818.

Proposed Project: Free Clinics Federal Tort Claims Act (FTCA) Deeming Application: New

Congress legislated FTCA medical malpractice protection for free clinic volunteer health professionals through section 194 of the Health Insurance Portability and Accountability Act (HIPAA). Individuals eligible to participate in this program are health care practitioners volunteering at free clinics who meet specific eligibility requirements. If an individual meets all the requirements of this program, he/she can be “deemed” to be a Federal employee. This deemed status specifically provides immunity from medical malpractice lawsuits as a result of the performance of medical, surgical, dental, or related activities within the scope of the volunteer's work at the free clinic.

The sponsoring free clinic must submit a FTCA deeming application to HRSA on behalf of its volunteer health care professional(s). This application will require information about the sponsoring free clinic's credentialing and privileging systems, risk management practices, and quality assurance processes in order to ensure that the Federal Government is not exposed to undue liability resulting from the medical malpractice coverage of non-qualified health care professionals. Attached to the application will be a listing of specific volunteer health care professionals for whom the sponsoring free clinic is requesting deemed status.

Emergency approval is being requested because the data collection and reporting of this information is needed before the expiration of the normal time limits under OMB's regulations at 5 CFR part 1320. This information is needed to ensure the timely availability of data as necessary for the Secretary to make a determination for the provision of FTCA deemed status to volunteer health care professionals working at free clinics. Upon receipt of OMB approval for this submission, HRSA will publish a Federal Register notice to begin the process for routine clearance under 5 CFR 1320.

The burden estimate for this project is as follows:

Form | Number of respondents | Responses per respondent | Total responses | Hours per response | Total burden hours
FTCA Deeming Application | 600 | 1 | 600 | 2.5 | 1,500

Written comments and recommendations should be sent within 5 days of publication of this notice to John Kramer, Human Resources and Housing Branch, Office of Management and Budget, New Executive Office Building, Room 10235, Washington, DC 20503. Due to potential delays in OMB's receipt and processing of mail sent through the U.S. Postal Service, respondents are encouraged to submit comments by fax to 202-395-6974.

Dated: September 10, 2004.
Tina M. Cheatham,
Director, Division of Policy Review and Coordination.

[FR Doc. 04-20767 Filed 9-14-04; 8:45 am]

BILLING CODE 4165-15-P